INTERNATIONAL TRADE COMMISSION

[Investigation No. 701-TA-657 (Final)]

Chassis and Subassemblies From China

Determination

On the basis of the record ¹ developed in the subject investigation, the United States International Trade Commission (“Commission”) determines, pursuant to the Tariff Act of 1930 (“the Act”), that an industry in the United States is materially injured by reason of imports of chassis and subassemblies (“chassis”) from China, provided for in subheadings 8716.39.00 and 8716.90.50 of the Harmonized Tariff Schedule of the United States, that have been found by the U.S. Department of Commerce (“Commerce”) to be subsidized by the government of China.²

¹ The record is defined in § 207.2(f) of the Commission's Rules of Practice and Procedure (19 CFR 207.2(f)).

² 86 FR 15186 (March 22, 2021).

Background

The Commission instituted this investigation effective July 30, 2020, following receipt of petitions filed with the Commission and Commerce by the Coalition of American Chassis Manufacturers, consisting of Cheetah Chassis Corporation, Fairless Hills, Pennsylvania, Hercules Enterprises, LLC, Hillsborough, New Jersey, Pitts Enterprises, Inc., Pittsview, Alabama, Pratt Industries, Inc., Bridgman, Michigan, and Stoughton Trailers, LLC, Stoughton, Wisconsin. The Commission scheduled the final phase of the investigation following notification of a preliminary determination by Commerce that imports of chassis from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of January 14, 2021 (86 FR 3193). In light of the restrictions on access to the Commission building due to the COVID-19 pandemic, the Commission conducted its hearing through written testimony and video conference on March 16, 2021. All persons who requested the opportunity were permitted to participate.

The Commission made this determination pursuant to § 705(b) of the Act (19 U.S.C. 1671d(b)). It completed and filed its determination in this investigation on May 3, 2021. The views of the Commission are contained in USITC Publication 5187 (May 2021), entitled Chassis and Subassemblies from China: Investigation No. 701-TA-657 (Final).

By order of the Commission.
Issued: May 3, 2021.
Lisa Barton,
Secretary to the Commission.

[FR Doc. 2021-09658 Filed 5-6-21; 8:45 am]

BILLING CODE 7020-02-P